DEPARTMENT OF COMMERCE

National Oceanic and Atmospheric Administration

RIN 0648-XX08

Marine Mammals; File Nos. 14628 and 15471

AGENCY: National Marine Fisheries Service (NMFS), National Oceanic and Atmospheric Administration (NOAA), Commerce.

ACTION: Notice; receipt of applications.

SUMMARY: Notice is hereby given that the following two entities have applied in due form for permits to import marine mammal parts for scientific research purposes:National Museum of Natural History, Smithsonian Institution (Charles W. Potter, Responsible Party), PO Box 37012, Washington, DC 20013 (File No. 14628) and Michael Adkesson, D.V.M., Chicago Zoological Society, 3300 Golf Rd., Brookfield, Illinois 60527 (File No. 15471).

DATES: Written, telefaxed, or e-mail comments must be received on or before July 29, 2010.

ADDRESSES: The applications and related documents are available for review upon written request or by appointment in the following office(s):

Permits, Conservation and Education Division, Office of Protected Resources, NMFS, 1315 East-West Highway, Room 13705, Silver Spring, MD 20910; phone (301)713-2289; fax (301)713-0376; and

Northeast Region, NMFS, 55 Great Republic Drive, Gloucester, MA 01930; phone (978)281-9328; fax (978) 281-9394.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)713-0376, provided the facsimile is confirmed by hard copy submitted by mail and postmarked no later than the closing date of the comment period. Comments may also be submitted by e-mail. The mailbox address for providing e-mail comments is NMFS.Pr1Comments@noaa.gov. Include in the subject line of the e-mail comment the following document identifier: File No. 14628 or File No. 15471.

FOR FURTHER INFORMATION CONTACT: Laura Morse or Jennifer Skidmore, (301)713-2289.

SUPPLEMENTARY INFORMATION: The subject permits are requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR 222-226), and the Fur Seal Act of 1966, as amended (16 U.S.C. 1151 et seq.).

File No.14628: The National Museum of Natural History (NMNH) is requesting authorization to collect, import, export, possess, archive, and conduct analyses of marine mammal and endangered species parts. The applicant is requesting parts of all marine mammal under NMFS jursidiction to be included in this permit. Please refer to the following website for the list of species: http://www.nmfs.noaa.gov/pr/species/mammals/. No live animal takes are being requested and no incidental harassment of animals would occur. Parts would be archived by the NMNH and used to support research studies and incidental education. A five-year permit is requested.

File No. 15471: Michael Adkesson, D.V.M. is requesting authorization to import biological samples (blood, swabs, feces, blubber, biopsies and milk) taken from both live and dead South American fur seals (Arctocephalus australis), during ongoing health assessment studies in Punta San Juan, Peru. Samples may be archived, transported, and analyzed by researchers in order to optimize the amount of biological information gained from each animal. There will be no non-target species taken incidentally under this permit because the permit would only cover import and possession of samples from animals taken legally under other permits. A five-year permit is requested.

In compliance with the National Environmental Policy Act of 1969 (42 U.S.C. 4321 et seq.), an initial determination has been made that the activities proposed are categorically excluded from the requirement to prepare an environmental assessment or environmental impact statement.

Concurrent with the publication of this notice in the Federal Register, NMFS is forwarding copies of this application to the Marine Mammal Commission and its Committee of Scientific Advisors.

Dated: June 24, 2010.
Tammy C. Adams,
Acting Chief, Permits, Conservation and Education Division, Office of Protected Resources, National Marine Fisheries Service.

[FR Doc. 2010-15771 Filed 6-28-10; 8:45 am]

BILLING CODE 3510-22-S